SECURITIES AND EXCHANGE COMMISSION

[Release No. 82896]

Order Granting Motion for Extension of Time

March 16, 2018.

In the Matter of the Cboe BZX Exchange, Inc. for an Order Granting the Approval of Proposed Rule Change to Introduce Cboe Market Close, a Closing Match Process for Non-BZX Listed Securities under New Exchange Rule 11.28 (File No. SR-BatsBZX-2017-34); Securities Exchange Act Of 1934.

On March 9, 2018, The Nasdaq Stock Market LLC and NYSE Group, Inc. filed a Motion for an Extension of Time to File Statements in Opposition to the Action Made Pursuant to Delegated Authority (“Motion for an Extension of Time”) pursuant to Rule 161 of the Commission's Rules of Practice ¹ to extend to April 12, 2018, the time previously provided for the in the Commission's March 1, 2018, Order Granting Petitions for Review and Scheduling Filing of Statements.² On March 15, 2018, Cboe BZX Exchange, Inc. filed a response stating that it does not object to the Motion for an Extension of Time.

¹ 17 CFR 201.161.

² Exchange Act Release No. 82794 (March 1, 2018).

Extensions of time are disfavored absent a showing of good cause. It appears appropriate to grant the requested extension. Therefore,

It is Ordered, that the Motion for an Extension of Time is hereby Granted. The time for any party or other person to file a statement in support of or in opposition to the action made pursuant to delegated authority is extended from March 22, 2018 to April 12, 2018.

For the Commission, by its Secretary, pursuant to delegated authority.³
³ 17 CFR 200.30-7(a)(4).
Eduardo A. Aleman,
Assistant Secretary.

[FR Doc. 2018-05791 Filed 3-21-18; 8:45 am]

BILLING CODE 8011-01-P